DEPARTMENT OF THE INTERIOR

Bureau of Land Management

[LLORE0000 L58820000 LXRSEE99 HAG-09-0186]

Notice of Public Meetings for the Eugene District, Resource Advisory Committee

AGENCY: Bureau of Land Management, Interior.

ACTION: Notice of public meetings.

SUMMARY: In accordance with the Emergency Economic Stabilization Act of 2008, Title VI, Secure Schools and Community Self-Determination Program (H.R. 1424), the Federal Land Policy and Management Act, and the Federal Advisory Committee Act of 1972, the U.S. Department of the Interior, Bureau of Land Management, the Eugene District Resource Advisory Committee will meet as indicated below.

DATES AND ADDRESSES: The Eugene District Resource Advisory Committee will meet at the Bureau of Land Management, Eugene District Office, 2890 Chad Drive, Eugene, Oregon 97408, on June 11, 2009 and September 10, 2009. All meeting sessions will begin at 9 a.m. local time and will end at approximately 4:30 p.m. local time.

SUPPLEMENTARY INFORMATION: The Eugene District Resource Advisory Committee was appointed originally by the Secretary of the Interior pursuant to the Secure Rural Schools and Community Self-Determination Act of 2000 (Pub. L. 106-393) and re-authorized by the Emergency Economic Stabilization Act of 2008, Title VI, Secure Schools and Community Self-Determination Program (H.R. 1424).

Topics to be discussed by the Eugene District Resource Advisory Committee at these meetings include reviewing project proposals meeting the requirements under Section 201, H.R. 1424, “Title II—Special Projects on Federal Land,” and recommending funding for such projects to the Secretary of Interior.

All meetings are open to the public in their entirety. Public comment is generally scheduled for 11:30 a.m. to 12 p.m. local time, each meeting session. The amount of time scheduled for public presentations and meeting times may be extended when the authorized representative considers it necessary to accommodate all who seek to be heard regarding matters on the agenda.

FOR FURTHER INFORMATION CONTACT: Wayne E. Elliott, Designated Federal Officer, Bureau of Land Management, Eugene District Office, 2890 Chad Drive, Eugene, Oregon 97408 (541) 683-6989, or wayne_elliott@blm.gov.

Dated: May 6, 2009.
Wayne E. Elliott,
Designated Federal Officer.

[FR Doc. E9-11087 Filed 5-12-09; 8:45 am]

BILLING CODE 4310-33-P